DEPARTMENT OF ENERGY

Electricity Advisory Committee Meeting

AGENCY: Office of Electricity Delivery and Energy Reliability, Department of Energy.

ACTION: Notice of open meeting.

SUMMARY: This notice announces a meeting of the Electricity Advisory Committee (EAC). The Federal Advisory Committee Act (Pub. L. 92- 463, 86 Stat. 770) requires that public notice of these meetings be announced in the Federal Register.

DATES:

Monday, March 5, 2012, 2 p.m.-5 p.m. (EST).

Tuesday, March 6, 2012, 8 a.m.-4 p.m. (EST).

ADDRESSES: Ronald Reagan International Building, Horizon Room, 1300 Pennsylvania Avenue NW., Washington, DC 20229.

FOR FURTHER INFORMATION CONTACT: Matthew Rosenbaum, Office of Electricity Delivery and Energy Reliability, U.S. Department of Energy, Forrestal Building, Room 8G-017, 1000 Independence Avenue SW., Washington, DC 20585; Telephone: (202) 586-1060 or Email: matthew.rosenbaum@hq.doe.gov.

SUPPLEMENTARY INFORMATION: Purpose of the Committee: The Electricity Advisory Committee (EAC) was re-established in July 2010, in accordance with the provisions of the Federal Advisory Committee Act (FACA), as amended, 5 U.S.C., App. 2, to provide advice to the U.S. Department of Energy (DOE) in implementing the Energy Policy Act of 2005, executing the Energy Independence and Security Act of 2007, and modernizing the nation's electricity delivery infrastructure. The EAC is composed of individuals of diverse background selected for their technical expertise and experience, established records of distinguished professional service, and their knowledge of issues that pertain to electricity.

Tentative Agenda: The meeting of the EAC is expected to include discussion of the activities of the Energy Storage Technologies Subcommittee, the Smart Grid Subcommittee, the Transmission Subcommittee, and a discussion of potential study topics for consideration by the EAC, as requested by the DOE's Office of Electricity Delivery and Energy Reliability.

Tentative Agenda: March 5, 2012

1:30 p.m.-2 p.m.—Registration.

2 p.m.-2:30 p.m.—Welcome and Introductions.

2:30 p.m.-5 p.m.—Discussion of Key Energy Issues and Important Federal and Regional Developments.

5 p.m.—Adjourn Day One of EAC Meeting.

Tentative Agenda: March 6, 2012

8 a.m.-8:30 a.m.—Day Two Opening Remarks.

Session I: Electric Transmission

8:30 a.m.-9:15 a.m.—Discussion of Key Transmission Issues from Day 1.

9:15 a.m.-10:15 a.m.—Session 1: Transmission Subcommittee Focus Areas and Action Plan for 2012.

10:15 a.m.-10:30 a.m.—Break.

Session II: Energy Storage Technologies

10:30 a.m.-11:15 a.m.—Discussion of Key Storage Issues from Day 1.

11:15 a.m.-2:15 p.m.—Session 1: Storage Subcommittee Focus Areas and Action Plan for 2012.

12:15 p.m.-1:15 p.m.—Lunch (Provided to EAC members; Others Are on Your Own).

Session III: Smart Grid

1:15 p.m.-2 p.m.—Discussion of Key Smart Grid Issues from Day 1.

2 p.m.-3 p.m.—Smart Grid Subcommittee Focus Areas and Action Plan for 2012.

3 p.m.-3:15 p.m.—Break.

3:15 p.m.-3:45 p.m.—Public Comments (Must register to comment at time of check-in).

3:45 p.m.-4 p.m.—Wrap Up of March 2012 EAC Meeting.

4 p.m.—Adjourn.

The meeting agenda may change to accommodate EAC business. For EAC agenda updates, see the EAC Web site at: http://www.oe.energy.gov/eac.htm.

Public Participation: The EAC welcomes the attendance of the public at its meetings. Individuals who wish to offer public comments at the EAC meeting may do so on Tuesday, March 6, 2011, but must register at the registration table in advance. Approximately 15 minutes will be reserved for public comments. Time allotted per speaker will depend on the number who wish to speak but is not expected to exceed three minutes. Anyone who is not able to attend the meeting, or for whom the allotted public comments time is insufficient to address pertinent issues with the EAC, is invited to send a written statement to Mr. Matthew Rosenbaum.

You may submit comments, identified by “Electricity Advisory Committee Open Meeting,” by any of the following methods:

• Mail/Hand Delivery/Courier: Matthew Rosenbaum, Office of Electricity Delivery and Energy Reliability, U.S. Department of Energy, Forrestal Building, Room 8G-017, 1000 Independence Avenue SW., Washington, DC 20585.

• Email: matthew.rosenbaum@hq.doe.gov. Include “Electricity Advisory Committee Open Meeting” in the subject line of the message.

• Federal eRulemaking Portal: http://www.regulations.gov. Follow the instructions for submitting comments. Instructions: All submissions received must include the agency name and identifier. All comments received will be posted without change to http://www.oe.energy.gov/eac.htm, including any personal information provided.

• Docket: For access to the docket, to read background documents or comments received, go to http://www.oe.energy.gov/eac.htm.

The following electronic file formats are acceptable: Microsoft Word (.doc), Corel Word Perfect (.wpd), Adobe Acrobat (.pdf), Rich Text Format (.rtf), plain text (.txt), Microsoft Excel (.xls), and Microsoft PowerPoint (.ppt). If you submit information that you believe to be exempt by law from public disclosure, you must submit one complete copy, as well as one copy from which the information claimed to be exempt by law from public disclosure has been deleted. You must also explain the reasons why you believe the deleted information is exempt from disclosure.

DOE is responsible for the final determination concerning disclosure or nondisclosure of the information and for treating it in accordance with the DOE's Freedom of Information regulations (10 CFR 1004.11).

The EAC will also hold meetings in Washington, DC on June 11-12, 2012 and October 15-16, 2012. The venue and agenda will be provided in future notices.

Note: Delivery of the U.S. Postal Service mail to DOE may be delayed by several weeks due to security screening. The Department, therefore, encourages those wishing to comment to submit comments electronically by email. If comments are submitted by regular mail, the Department requests that they be accompanied by a CD or diskette containing electronic files of the submission.

Minutes: The minutes of the EAC meeting will be posted on the EAC Web page at http://energy.gov/oe/services/electricity-advisory-committee-eac. They can also be obtained by contacting Mr. Matthew Rosenbaum at the address above.

Issued in Washington, DC, on February 15, 2012.
LaTanya R. Butler,
Acting Deputy Committee Management Officer.

[FR Doc. 2012-4048 Filed 2-21-12; 8:45 am]

BILLING CODE 6450-01-P